DEPARTMENT OF AGRICULTURE

Forest Service

Tripod Fire Salvage Project, Okanogan and Wenatchee National Forests, Okanogan County, WA

AGENCY: Forest Service, USDA.

ACTION: Notice of intent to prepare an environmental impact statement.

SUMMARY: Notice is hereby given that the USDA Forest Service will prepare an Environmental Impact Statement (EIS) for a proposal to recover the economic value through salvage harvest of dead and dying trees damaged in the Tripod Complex Fire, to remove potential hazard trees from open roads, and to reforest salvage harvest units within specified drainages of the Methow Valley and Tonasket Ranger Districts, Okanogan and Wenatchee National Forests. Details of the proposal are further described in the SUPPLEMENTARY INFORMATION section below. Approximately 2,800 acres would be treated in the proposed project area.

The analysis area encompasses a portion of the burned area in the Middle Fork Beaver Creek, Lightning Creek, Chewuch River, Ramsey Creek, Boulder Creek, North Fork Boulder Cree, Bromas Creek, Brevucinus Creek, Twentymile Creek, Pelican Creek, McCay Creek, Granite Creek, Cedar Creek, and Cabin Creek drainages, along Road 37 and Road 39 within the fire boundary, and includes parts of the following townships: T34N, R23E; T34N, R24E; T35N, R22E; T35N, R23E; T35N, R24E; T36N, R22E; T36N, R23E; T36N, R24E; T37N, R22E; T37N, R23E; T38N, R23E; and T39N, R23E; Williamette Meridian. The Tripod Complex Fire, located five miles northeast of Winthrop, Washington, burned approximately 175,000 acres across mixed ownership in July to September 2006. Approximately 164,000 acres were on National Forest System lands administered by the Methow Valley Ranger District and the Tonasket Ranger District, Okanogan and Wenatchee National Forests.

The purpose of the EIS will be to evaluate a range of reasonable alternatives for this proposal and take public comment on the analysis. The direction in the amended Okanogan National Forest Land and Resource Management Plan (Forest Plan) provides the overall guidance for management of National Forest System lands included in this proposal.

DATES: Comments concerning the scope of the analysis must be received by January 29, 2007. The draft DEIS is expected to be available to the public for review by March 2007. The final EIS is scheduled to be completed by June 2007.

ADDRESSES: Submit written comments to John Newcom, Methow Valley District Ranger, 24 West Chewuch Road, Winthrop, Washington 98862, Attn: Tripod Fire Salvage Project. Comments may be mailed electronically to comments-pacificnorthwest-okanogan-methowvalley@fs.fed.us. See the SUPPLEMENTARY INFORMATION section below for the format and other information about electronic filing of comments.

FOR FURTHER INFORMATION CONTACT: Bob Stoehr, Tripod Fire Salvage Project Leader, USDA Forest Service, Methow Valley Ranger District, 24 West Chewuch Road, Winthrop, Washington 98862; phone 509-996-4003.

SUPPLEMENTARY INFORMATION:

Purpose and Need for Action

The purpose and need of the Tripod Fire Salvage Project includes: (1) Recovery of the economic value of a portion of dead and dying trees in the project areas; (2) Improving public safety within the fire area by removing potential hazard trees along open forest roads; and (3) Re-establishing trees in salvage harvest units where there are few or no green trees that can act as a seed source.

Proposed Action

The Forest Supervisor for the Okanogan and Wenatchee National Forests proposes to salvage dead and dying trees from approximately 2,800 acres within a portion of the area burned by the Tripod Complex Fire. Salvage harvest methods would include ground based and skyline yarding systems. Ground-based yarding systems would not be used on sustained slopes greater than 35 percent. To facilitate haul, 6.5 miles of existing classified roads would be reconstructed and about 3.5 miles of temporary roads would be constructed. No new classified road construction is proposed and all temporary roads would be closed or decommissioned after project activities are completed. No commercial harvest or road construction is proposed within the Granite Mountain, Long Swamp, and Tiffany Inventoried Roadless Areas. Roadside hazard trees and trees expected to become a hazard in the future within the project area along open roads and along any closed roads to be opened for implementation for this project, would be felled and removed to provide safe and adequate road access. Tree planting is proposed in salvage harvest units where there is insufficient seed source to ensure natural regeneration in a timely manner. The proposed action would require amendments of the Forest Plan to: (1) Allow harvest of green trees larger than 21′ diameter breast height that are expected to die from fire effects, (2) Allow snowplowing and motorized use of designated, groomed snowmobile routes to facilitate salvage operations, (3) Allow motorized access in Management Area 26, which is deer winter range, during the winter season to facilitate salvage operations, and (4) Exceed open road density standards in discrete management areas as a result of salvage operations.

Possible Alternatives

A full range of alternatives will be considered, including the proposed action, no action, and additional alternatives that respond to issues generated during the scoping process.

Responsible Official

The Responsible Official is James L. Boynton, Forest Supervisor, Okanogan and Wenatchee National Forests, 215 Melody Lane, Wenatchee, Washington 98801. The Responsible Official will document the Tripod Fire Salvage Project decision and reasons for the decision in a Record of Decision. That decision will be subject to Forest Service appeal regulations (36 CFR Part 215).

Nature of the Decision To Be Made

The Forest Supervisor for the Okanogan and Wenatchee National Forests will decide whether or not to salvage timber, remove potential hazard trees, and reforest salvage harvest units, and if so, the locations and extent of treatments. The decision will include whether or not to reconstruct classified roads and construct new temporary roads for access within the project area, and if so, how much. The Forest Supervisor will also decide how to mitigate effects of these actions and will determine when and how monitoring of effects will take place. In making his decision, the Forest Supervisor will consider how well each alternative meets the purpose and need, the manner in which each alternative responds to key issues raised and public comments received during the analysis, and the impacts of proposed project activities to National Forest System land and resources.

Scoping Process

Public participation will be sought at several points during the analysis, including listing of this project in the Winter 2006 and subsequent issues of the Okanogan and Wenatchee National Forests Schedule of Proposed Action; letters to Indian Tribes, agencies, organizations and individuals who may be intersted in or affected by the proposed activities; and a legal notice in The Wenatchee World newspaper. A public meeting will be scheduled in January 2007 to describe the proposed action and identify public issues. Other meetings will be scheduled as needed. The scoping process will also include identifying major issues to be analyzed in depth, exploring alternatives to the proposed actions, and identifying potential environmental effects of the proposed action and alternatives (i.e., direct, indirect and cumulative effects).

Preliminary Issues

Preliminary issues identified include the potential effect of the proposed action on soils, water quality and fish habitat, snags and down wood, and threatened, endangered and sensitive terrestrial and plant species; disturbance to cultural resources; potential for noxious week expansion; potential loss of economic value of trees damaged by the wildfire; and the safety and use of the area by the public.

Comment Opportunity

This notice of intent initiates the scoping process which guides development of the EIS. The Forest Supervisor is seeking public and agency comment on the proposed action to determine if any additional issues arise. Additional issues may lead either to other alternatives, or additional mitigation measures and monitoring requirements. Comments and data may be submitted electronically by sending electronic mail (e-mail) to: comments-pacificnorthwest-okanogan-methowvalley@fs.fed.us. Include the project name in the e-mail subject line and submit comments either as part of the e-mail message or an attachment in one of the following three formats: Microsoft Word, rich text format (rtf) or Adobe Portable Document Format (pdf).

Early Notice of Importance of Public Participation in Subsequent Environmental Review

A draft EIS will be prepared for comment. The comment period on the draft EIS will be 30 days fromt he date the Environmental Protection Agency publishes the notice of availability in the Federal Register. The draft EIS is expected to be filed with the Environmental Protection Agency (EPA) and to be available for public review in March 2007 and the final EIS is expected to be completed by June 2007.

The Forest Service believes, at this early stage, it is important to give reviewers notice of several court rulilngs related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Harris, 490 F. Supp. 1334, 1338 (E.E. Wis. 1980). Because of these court rulings, it is very important that those interested in this proposed action participate by the close of the 45 day comment period so that substantive comments and objections are made available to the Forest Service at a time when it can meaningful consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received in response to this notice, including names and addresses of those who comment, will be consdiered part of the public record on this Proposed Action adn will be available for public inspection.

Dated: December 21, 2006.
Anita Spargur,
Human Resources Officer and Acting Forest Supervisor.

[FR Doc. 06-9905 Filed 12-27-06; 8:45 am]

BILLING CODE 3419-11-M